DEPARTMENT OF ENERGY

Federal Energy Regulatory Commission

[Docket No. CP15-61-000]

Northern Natural Gas Company; Notice of Request Under Blanket Authorization

Take notice that on January 20, 2015, Northern Natural Gas Company (Northern), 1111 South 103rd Street, Omaha, Nebraska 68124, filed in the above Docket, a prior notice request pursuant to sections 157.205, 157.208, and 157.216 of the Commission's regulations under the Natural Gas Act (NGA) and Northern's blanket certificate issued in Docket CP82-401-000, for authorization to: (1) Construct and operate a new 1,590 horsepower Willow Lake compressor station; (2) install and operate a new Watertown branch line takeoff and lateral; (3) construct and operate a new interconnect with Northern Border Pipeline Company; and (4) abandon short segments of pipeline. All facilities are located in South Dakota and designed to provide up to 31, 550 dekatherms (Dth) per day of incremental firm transportation capacity for industrial, commercial and residential use, all as more fully set forth in the application which is on file with the Commission and open to public inspection. The filing may also be viewed on the Commission's Web site at http://www.ferc.gov using the “eLibrary” link. Enter the docket number excluding the last three digits in the docket number field to access the document. For assistance, contact FERC at FERCOnlineSupport@ferc.gov or call toll-free, (866) 208-3676 or TTY, (202) 502-8659.

Any questions regarding this application should be directed to Laura Demman, Vice President of Regulatory and Government Affairs, phone (402) 398-7278, facsimile (402) 398-7006, or by email at: laura.demman@nngco.com, Dari R. Dornan, Senior Counsel, phone (402) 398-7077, facsimile (402) 398-7426, or by email at: dari.dornan@nngco.com, or Michael T. Loeffler, Senior Director of Certificates and External Affairs, phone (402) 398-7103, facsimile (402) 398-7592, or by email at: mike.loeffler@nngco.com. All persons located at Northern Natural Gas Company, P.O. Box 3330, Omaha, Nebraska 68103-0330.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: January 30, 2015.
Kimberly D. Bose,
Secretary.

[FR Doc. 2015-02290 Filed 2-4-15; 8:45 am]

BILLING CODE 6717-01-P